DEPARTMENT OF LABOR

Employment and Training Administration

[TA-W-59,500]

Connecticut General Life Insurance Company (CGLIC), Cigna Healthcare Service Operations, Philadelphia, PA; Notice of Negative Determination Regarding Application for Reconsideration

By application dated August 17, 2006 a petitioner requested administrative reconsideration of the Department's negative determination regarding eligibility for workers and former workers of the subject firm to apply for Trade Adjustment Assistance (TAA). The denial notice applicable to workers of Connecticut General Life Insurance Company (CGLIC), Cigna Healthcare Service Operations, Philadelphia, Pennsylvania was signed on July 24, 2006 and published in the Federal Register on August 14, 2006 (71 FR 46519).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The TAA petition filed on behalf of workers at Connecticut General Life Insurance Company (CGLIC), Cigna Healthcare Service Operations, Philadelphia, Pennsylvania engaged in computer support for CIGNA's Disability Management IT (support, basic Application development support, coding and systems testing, and customer help desk support) was denied because the ST petitioning workers did not produce an article within the meaning of Section 222 of the Act.

The petitioner contends that the Department erred in its interpretation of work performed at the subject facility as providing a service and further conveys that workers of the subject firm created various software for sale or lease to customers. The petitioner included the name of a customer who purchased/leased Disability Management software from the subject firm, thus concluding that workers of the subject firm were supporting this customer.

A company official was contacted for clarification in regard to the nature of the work performed at the subject facility. The official stated that workers of the subject firm were employed by Connecticut General Life Insurance Company (CGLIC) that supports CIGNA's Disability Management Business at Intracorp, CIGNA disability management company. The official clarified that Intracorp is not in the business of manufacturing Disability Management software for sale to third parties. Workers of the subject firm provided system support for Intracorp, which sells case management services to workers' compensation insurers, employers who self fund workers' compensation and disability benefits, and third party administrator. All software developed by workers of the subject firm is used to support this service business. In addition to case management, Intracorp developed its own automated medical bill review service and this software program is also used externally by the subject firm for its business. The official further clarified that there is only one instance when a customer temporarily leases software developed by Intracorp to perform its own bill review services. This customer did not purchase this software. When the software was leased to this customer, some modifications were done to existing Audit Plus software, however these enhancements are not a new “product” but rather are enhancements to an existing system.

The sophistication of the work involved is not an issue in ascertaining whether the petitioning workers are eligible for trade adjustment assistance, but whether they produce an article within the meaning of section 222 of the Trade Act of 1974.

Research, development and technical support of the existing software is not considered production of an article within the meaning of Section 222 of the Trade Act. Further, while the provision of services may result in creation of software, as outlined by the petitioner, it is incidental to the provision of services. The Department has consistently determined that those items which are created incidental to the provision of services are not considered articles for purposes of the Trade Act.

The investigation on reconsideration supported the findings of the primary investigation that the petitioning group of workers does not produce an article.

Service workers can be certified only if worker separations are caused by a reduced demand for their services from a parent or controlling firm or subdivision whose workers produce an article domestically who meet the eligibility requirements, or if the group of workers are leased workers who perform their duties at a facility that meet the eligibility requirements.

The petitioner's alleges that the work performed by the workers of the subject firm has been shifted to India.

The company official stated that developments for the Audit Plus bill review system enhancements or fixes are currently performed on-site and have not been moved abroad. The official also stated that there are currently no firm target dates to move this work offshore.

Conclusion

After review of the application and investigative findings, I conclude that there has been no error or misinterpretation of the law or of the facts which would justify reconsideration of the Department of Labor's prior decision. Accordingly, the application is denied.

Signed at Washington, DC, this 25th day of October, 2006.
Elliott S. Kushner,
Certifying Officer, Division of Trade Adjustment Assistance.

[FR Doc. E6-18353 Filed 10-31-06; 8:45 am]

BILLING CODE 4510-30-P